ARMED FORCES RETIREMENT HOME

Notice of Intent To Prepare an Environmental Impact Statement

AGENCY: Armed Forces Retirement Home.

ACTION: Notice.

SUMMARY: Pursuant to the requirements of the National Environmental Policy Act of 1969 (NEPA), 42 U.S.C. 4321, et seq. and the Council on Environmental Quality Regulations (40 Code of Federal Regulations [CFR] Parts 1500-1508), the Armed Forces Retirement Home (AFRH) plans to prepare an Environmental Impact Statement (EIS) to analyze the potential impacts from the proposed Master Development Plan for its campus located at 3700 North Capital Street, NW., in Washington, DC. AFRH also intends to initiate consultation under Section 106 of the National Historic Preservation Act, 16 U.S.C. 470f, for the proposed Master Development Plan.

FOR FURTHER INFORMATION CONTACT: Craig Wallwork, AFRH, at (202) 730-3038. Please call this number if special assistance is needed to attend and participate in the scoping meeting.

SUPPLEMENTARY INFORMATION: The notice of intent is as follows:

Notice of Intent To Prepare an Environmental Impact Statement for the Proposed Master Development Plan for the Armed Forces Retirement Home in Washington, DC

The Armed Forces Retirement Home (AFRH) intends to prepare an Environmental Impact Statement (EIS) to analyze the potential impacts from the proposed Master Development Plan for its campus located at 3700 North Capital Street, NW., in Washington, DC.

Background

Established in 1851, the AFRH in Washington, DC continues its mission as a retirement community for military veterans. The 276-acre site is currently developed with 93 structures including the U.S. Soldiers' and Airmen's Home National Landmark District.

In 2002, the National Defense Authorization Act for Fiscal Year 2002 (Pub. L. 107-107, 24 U.S.C. 410, et seq.) gave the AFRH, with approval of the Secretary of Defense, authority to dispose of any property by sale, lease, or otherwise that is excess to the needs of the AFRH. Proceeds from such a disposal are to replenish the AFRH's Trust Fund. To implement this authority, AFRH is currently preparing a Master Development Plan for its 276-acre campus in Washington, DC that will guide the long-term use and development of the site.

Alternatives Under Consideration

AFRH will analyze the proposed action and no action alternatives for the proposed Master Development Plan. AFRH will analyze a range of alternatives for future development on the AFRH campus. These alternatives will include development of portions of the site for office, commercial, institutional, and residential uses. As part of the EIS, AFRH will study the impacts of each alternative on the human environment.

Scoping Process

In accordance with NEPA, a scoping process will be conducted to aid in determining the alternatives to be considered and the scope of issues to be addressed, as well as for identifying the significant issues related to the proposed Master Development Plan. Scoping will be accomplished through a public scoping meeting, direct mail correspondence to potentially interested individuals, agencies, and organizations, and meetings with agencies having an interest in the AFRH. It is important that Federal, regional, and local agencies, and interested individuals and groups take this opportunity to identify environmental concerns that should be addressed during the preparation of the Draft EIS.

The AFRH is also using the NEPA scoping to facilitate consultation with the public under Section 106 of the National Historic Preservation Act (36 CFR Part 800: Protection of Historic Properties). AFRH welcomes comments from the public to ensure that it takes into account the effects of its action on historic properties.

Public Scoping Meeting

The public scoping meeting will be held on September 9, 2004, from 6:30 to 8:30 p.m. at the Armed Forces Retirement Home-Sherman Building South located at 3700 N. Capital Street, NW., in Washington, DC. Photo identification will be required to enter the site, and security will direct visitors to available parking. The meeting will be an informal open house, where visitors may come, receive information, and give comments. AFRH will publish notices in the Washington Post and local newspapers announcing this meeting. AFRH will prepare a scoping report, available to the public, which will summarize the comments received and facilitate their incorporation into the EIS and Section 106 processes.

Written Comments

Agencies and the public are encouraged to provide written comments on the scoping issues in addition to or in lieu of giving their comments at the public scoping meeting. Written comments regarding the environmental analysis for the proposed Master Development Plan must be postmarked no later than September 17, 2004, and sent to the following address: Armed Forces Retirement Home, Attention: Craig Wallwork, 3700 North Capitol Street, NW., Washington, DC 20011, craig.wallwork@afrh.gov.

Dated: August 13, 2004.
Timothy Cox,
Chief Operating Officer, Armed Forces Retirement Home.

[FR Doc. 04-18896 Filed 8-17-04; 8:45 am]

BILLING CODE 8250-01-P